DEPARTMENT OF JUSTICE

Antitrust Division

Notice Pursuant to the National Cooperative Research and Production Act of 1993—The PCAD Venture Team

Notice is hereby given that, on April 17, 2002, pursuant to Section 6(a) of the National Cooperative Research and Production Act of 1993, 15 U.S.C. 4301 et seq. (“the Act“), The PCAD Venture Team has filed written notifications simultaneously with the Attorney General and the Federal Trade Commission disclosing changes in its membership status. The notifications were filed for the purpose of extending the Act's provisions limiting the recovery of antitrust plaintiffs to actual damages under specified circumstances. Specifically, International Business Machines Corporation, Yorktown Heights, NY has been added as a party to this venture. Also, SDL, Inc., San Jose, CA; Hewlett-Packard, Westlake Village, CA; and Northern Telecom, Inc., McLean, VA have been dropped as parties to this venture. Rsoft, Ossining, NY changed its name to Rsoft Design Group, Ossining, NY.

No other changes have been made in either the membership or planned activity of the group research project. Membership in this group research project remains open, and The PCAD Venture Team intends to file additional written notification disclosing all changes in membership.

On February 10, 1999, The PCAD Venture Team filed its original notification pursuant to Section 6(a) of the Act. The Department of Justice published a notice in the Federal Register pursuant to Section 6(b) of the Act on May 26, 1999 (64 FR 28520).

Constance K. Robinson,
Director of Operations, Antitrust Division.

[FR Doc. 02-14402 Filed 6-7-02; 8:45 am]

BILLING CODE 4410-11-M